DEPARTMENT OF COMMERCE

National Oceanic and Atmospheric Administration

50 CFR Part 622

[Docket No. 140818679-5356-02]

RIN 0648-XE674

Fisheries of the Caribbean, Gulf of Mexico, and South Atlantic; Reef Fish Fishery of the Gulf of Mexico; Extension of the 2016 Gulf of Mexico Private Angling Recreational Red Snapper Season

AGENCY: National Marine Fisheries Service (NMFS), National Oceanic and Atmospheric Administration (NOAA), Commerce.

ACTION: Temporary rule; extension.

SUMMARY: NMFS extends the recreational fishing season for the private angling component for red snapper in the exclusive economic zone (EEZ) of the Gulf of Mexico (Gulf) through this temporary rule. NMFS previously determined the private angling component would reach its annual catch target (ACT) for Gulf red snapper by 12:01 a.m., local time, June 10, 2016. However, due to recent severe weather conditions in the eastern Gulf, fishing opportunities were restricted during the recreational fishing season for the private angling component. NMFS has projected the private angling component will not reach its ACT by the current closure date. Therefore, NMFS is extending the recreational red snapper fishing season for the private angling component for 2 days to allow the ACT to be harvested. The intent of this action is to provide the recreational private angling component the opportunity to harvest its red snapper ACT, and the opportunity to achieve the optimum yield for the fishery, thus enhancing social and economic benefits to the fishery.

DATES: The extension is effective from 12:01 a.m., local time, June 10, 2016, until 12:01 a.m., local time, June 12, 2016. The beginning of the 2017 Federal recreational fishing season for the private angling component begins on June 1, 2017.

FOR FURTHER INFORMATION CONTACT: Steve Branstetter, NMFS Southeast Regional Office, telephone: 727-824-5305, email: steve.branstetter@noaa.gov.

SUPPLEMENTARY INFORMATION: The Gulf reef fish fishery includes red snapper and is managed under the Fishery Management Plan for the Reef Fish Resources of the Gulf of Mexico (FMP). The FMP was prepared by the Gulf of Mexico Fishery Management Council (Council) and is implemented by NMFS through regulations at 50 CFR part 622 under the authority of the Magnuson-Stevens Fishery Conservation and Management Act (Magnuson-Stevens Act).

On April 28, 2016, NMFS announced in the Federal Register the 2016 recreational fishing seasons for the private angling and Federal charter vessel/headboat (for-hire) components for red snapper in the Gulf EEZ (81 FR 25583, April 28, 2016). The Federal recreational seasons for red snapper in the Gulf began on June 1, 2016. Regulations at 50 CFR 622.41(q)(2)(i) require NMFS to close the respective recreational fishing seasons for Gulf red snapper in Federal waters when the respective recreational component ACT, specified in 50 CFR 622.41(q)(2)(iii), is met or projected to be met. For recreational harvest by the private angling component, NMFS determined that the season would end at 12:01 a.m., local time, on June 10, 2016, which constituted a 9-day fishing season.

Landings and effort data are not available in-season to determine if the recreational ACT for the private angling component will be met on June 9, 2016. However, the eastern Gulf experienced severe weather conditions from Tropical Storm Colin during the 2016 red snapper recreational fishing season and it is likely that fishing effort and landings for the private angling component are less than NMFS projected. The majority of red snapper recreational harvest in the Gulf comes from the eastern Gulf. Because of the assumed effort reduction as a result of severe weather, NMFS has determined that the recreational private angling component will not harvest its red snapper ACT by the previously estimated June 10, 2016, closing date. Based on the assumption that weather conditions will improve and recreational fishing effort will return to expected rates, NMFS projects the recreational red snapper season for the private angling component can be extended for an additional 2 days, and will therefore close at 12:01 a.m., local time, on June 12, 2016.

The Federal season for the Federal for-hire component began at 12:01 a.m., local time, June 1, 2016, and will close at 12:01 a.m., local time, July 17, 2016 (81 FR 25583, April 28, 2016). The Federal recreational fishing season for the for-hire component will not be revised by NMFS as a result of the recent severe weather, because the comparatively longer component fishing season allows for greater flexibility in scheduling fishing trips and greater opportunity to harvest the component ACT.

The 2017 Federal recreational fishing seasons for both private angling and for-hire components begin on June 1, 2017.

On and after the effective date of a recreational component closure, the bag and possession limits for red snapper in the respective component are zero. When the Federal charter vessel/headboat component or entire recreational sector is closed, these bag and possession limits apply in the Gulf on board a vessel for which a valid Federal charter vessel/headboat permit for Gulf reef fish has been issued, without regard to where such species were harvested, i.e., in state or Federal waters.

Classification

The Regional Administrator for the NMFS Southeast Region has determined this temporary rule is necessary for the conservation and management of Gulf red snapper and is consistent with the Magnuson-Stevens Act and other applicable laws.

This action is taken under 50 CFR 622.8(c) and 622.41(q)(2)(i) and is exempt from review under Executive Order 12866.

These measures are exempt from the procedures of the Regulatory Flexibility Act because the temporary rule is issued without opportunity for prior notice and comment.

This action responds to the best scientific information available. The Assistant Administrator for NOAA Fisheries (AA), finds that the need to immediately implement this action to extend the season for the private angling component for the red snapper recreational sector constitute good cause to waive the requirements to provide prior notice and opportunity for public comment on this temporary rule pursuant to the authority set forth in 5 U.S.C. 553(b)(B), because such procedures are unnecessary and contrary to the public interest. Such procedures are unnecessary because the rule implementing the recreational red snapper ACLs and ACTs, and the rule implementing the requirement to close the recreational components when the ACTs are projected to be reached have already been subject to notice and comment, and all that remains is to notify the public of the extension. Providing prior notice and opportunity for public comment are contrary to the public interest because of the need to immediately implement this action to allow for a limited extended season. Prior notice and opportunity for public comment would require time and would not allow for the extension of the season.

For the aforementioned reasons, the AA also finds good cause to waive the 30-day delay in the effectiveness of this action under 5 U.S.C. 553(d)(3).

Authority: 16 U.S.C. 1801 et seq.

Dated: June 8, 2016.
Alan D. Risenhoover,
Director, Office of Sustainable Fisheries, National Marine Fisheries Service.

[FR Doc. 2016-13909 Filed 6-8-16; 4:15 pm]

BILLING CODE 3510-22-P